DEPARTMENT OF AGRICULTURE

Food and Nutrition Service

Agency Information Collection Activities: Proposed Collection; Comment Request Form FNS-798 and FNS-798A, WIC Financial Management and Participation Report With Addendum

AGENCY: Food and Nutrition Service, USDA.

ACTION: Notice.

SUMMARY: In accordance with the Paperwork Reduction Act of 1995, this notice announces the Food and Nutrition Service's (FNS) intention to request approval for revision of a currently approved collection, Form FNS-798 and FNS-798A, WIC Financial Management and Participation Report with Addendum.

DATES: Comments on this notice must be received by August 4, 2001.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology. Comments may be sent to: Patricia N. Daniels, Director, Supplemental Food Programs Division, Food and Nutrition Service, U.S. Department of Agriculture, 3101 Park Center Drive, Alexandria, VA 22302.

All responses to this notice will be summarized and included in the request for OMB approval, and will become a matter of public record.

FOR FURTHER INFORMATION CONTACT: Requests for additional information or copies of the information collection form and instructions should be directed to: Patricia N. Daniels, (703) 305-2749.

SUPPLEMENTARY INFORMATION: Title: WIC Financial Management and Participation Report with Addendum.

OMB Number: 0584-0045.

Expiration Date: 05-31-2003.

Type of Request: Revision of a Currently Approved Collection.

Abstract: FNS proposes to add one data element, migrant participation, to Form FNS-798. WIC State agencies will report the number of migrants served during the previous 12 months on their July FNS-798 report submitted at the end of August. Through August 2000, State agencies reported migrant participation along with participation by nutritional risk priority on Form FNS-654, WIC Annual Participation Report. Form FNS-654 has since been allowed to expire, as the WIC funding formulas no longer utilize priority data. This allows WIC State agencies to report participation by priority data to FNS less frequently. WIC State agencies will continue to report participant priority data to FNS on the biennial WIC Participant Characteristics (PC) Report. Expiration of the Form FNS-654 reduces the reporting burden with respect to participant priority data.

FNS must continue to collect migrant data annually to comply with section 17(g)(4) of the Child Nutrition Act of 1966 (42 U.S.C. 1786(g)(4)), which provides that “[o]f the sums appropriated for any fiscal year for programs authorized under this section, not less than nine-tenths of 1 percent shall be available first for services to eligible members of migrant populations.” The addition of migrant participation as a data element on Form FNS-798, if approved, will result in no change in the reporting burden from that of previous years. Migrant data collection, formerly obtained on the Form FNS-654, will simply be consolidated with other current reporting requirements for ease of reporting.

Estimate of Burden: Public reporting burden for this collection of information is estimated to average 3.115 hours per response, including the time for reviewing instructions, searching existing data sources, gathering and maintaining the data needed, and completing and reviewing the collection of information. The total annual burden on respondents was previously estimated at 4637.6 hours. The revision adds one data element which increases the total annual burden by 22.44 hours.

Respondents: Directors or Administrators of WIC State agencies.

Estimated Number of Respondents: 88 respondents.

Estimated Number of Responses per Respondent: Seventeen.

Estimated Total Annual Burden on Respondents: 4660.04 hours.

Dated: May 23, 2001.
George A. Braley,
Acting Administrator, Food and Nutrition Service.

[FR Doc. 01-13871 Filed 6-1-01; 8:45 am]

BILLING CODE 3410-30-U